DEPARTMENT OF HEALTH AND HUMAN SERVICES

Administration for Children and Families

[OMB No. 0970-0449]

Proposed Information Collection Activity; Renewal of the Low Income Home Energy Assistance Program (LIHEAP) Performance Measures

AGENCY: Office of Community Services, Administration for Children and Families, HHS.

ACTION: Request for public comment.

SUMMARY: The Administration for Children and Families (ACF) is requesting reinstatement of the Low Income Home Energy Assistance Program (LIHEAP) Performance Measures (Office of Management and Budget (OMB) #0970-0449, expiration date March 31, 2021) with changes. Changes include a single addition of a field to capture a potential additional source of funding, and other minor changes to the most recent version of this form.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: The ACF Office of Community Services (OCS) within the U.S. Department of Health and Human Services (HHS) administers the Low Income Home Energy Assistance Program (LIHEAP) at the federal level. The LIHEAP Performance Data Form (LPDF) is an annual report in response to Section 2610(b) of the LIHEAP statute (42 U.S.C. 8629(b)), which requires the Secretary of HHS to submit, no later than June 30 of each federal fiscal year, a report to Congress on LIHEAP for the prior federal fiscal year. The completeness, accuracy, consistency, and timeliness of responses to data collections are needed for HHS to do the following:

• Provide reliable and complete fiscal and household data to Congress in the Department's LIHEAP Report to Congress for the federal fiscal year;

• Respond to questions from the Congress, Department, OMB, White House, and other interested parties in a timely manner; and

• Report LIHEAP performance results as part of the Administration's annual Congressional Justification.

In response to the 2010 Government Accountability Office (GAO) report, Low Income Home Energy Assistance Program—Greater Fraud Prevention Controls are Needed (GAO-10-621), and in consideration of the recommendations issued by the LIHEAP Performance Measures Implementation Work Group, OCS required the collection and reporting of these performance measures by state LIHEAP grantees, including the District of Columbia. OMB approved the LIHEAP Performance Data Form (LPDF) in November 2014 (OMB Clearance No. 0970-0449) and approved continued collection using the form through March 31, 2021. This request will extend approval to collect information using the LPDF for another 3 years. The LPDF provides for the collection of the following LIHEAP performance measures, which are considered to be developmental as part of the LPDF:

1. The benefit targeting index for high burden households receiving LIHEAP fuel assistance;

2. The burden reduction targeting index for high burden households receiving LIHEAP fuel assistance;

3. The number of households where LIHEAP prevented a potential home energy crisis; and

4. The number of households where LIHEAP benefits restored home energy.

All state LIHEAP grantees are required to complete the LPDF data through ACF's web-based data collection and reporting system, the Online Data Collection (OLDC), which is available at GrantSolutions homepage (https://home.grantsolutions.gov/home). The reporting requirements will be described through the LIHEAP Forms and Funding Applications page (https://www.acf.hhs.gov/ocs/form/liheap-forms-and-funding-applications) of ACF's website.

The previous OMB-approved LIHEAP Grantee Survey on sources and uses of LIHEAP funds was added in 2014 to the LPDF as an addition to the LIHEAP performance data. Additional items for separately reporting LIHEAP funds appropriated by the CARES Act (Pub. L. 116-136) were added in 2020.

ACF proposes additional changes for this data collection activity. These consist of (1) adding an item for reporting previous-year Residential Energy Assistance Challenge (REACH) funds as a source; (2) reorganizing source items by appropriations source instead of by report; (3) specifying the prior-year nature of CARES Act funds; and (4) minor wording changes.

The form is divided into the following three modules to add clarity:

Module 1. LIHEAP Grantee Survey (Required Reporting)

Module 1 of the LPDF will continue to require the following data from each state for the federal fiscal year:

• Grantee information;

• Sources and uses of LIHEAP funds;

• Average LIHEAP household benefits; and

• Maximum income cutoffs for 4-person households for each type of LIHEAP assistance provided by each grantee for the fiscal year.

Module 2. LIHEAP Performance Measures (Required Reporting)

Module 2 of the LPDF will continue to require the following data from each state for the federal fiscal year:

• Grantee information;

• Energy burden targeting;

• Restoration of home energy service; and

• Prevention of loss of home energy.

Module 3. LIHEAP Performance Measures (Optional Reporting)

Module 3 of the LIHEAP LPDF will continue to voluntarily collect the following additional information from each interested grantee for the federal fiscal year:

• Average annual energy usage;

• Unduplicated number of households using supplemental heating fuel and air conditioning;

• Unduplicated number of households that had restoration of home energy service; and

• Unduplicated number of households that had prevention of loss of home energy.

LIHEAP grantees will be able to compare their own results to the results for other states, as well as to regional and national results, through the Data Warehouse of the LIHEAP Performance Management website as they manage their programs.

Respondents: State governments, including the District of Columbia; the largest five electricity and natural gas vendors by state; the largest ten fuel oil and propane vendors by state; and state sub-grantees.

Annual Burden Estimates
| Number of respondents | Annual number of responses per | Average hour burden per | Annual burden hours
Module 1 (Grantee Survey)
State Grantees | 51 | 1 | 36 | 1,836
Energy Vendors (largest 5 electric, 5 natural gas, 10 fuel oil, and 10 propane vendors per state—average) | 1,530 | 1 | 1 | 1,530
Module 2 (LIHEAP Performance Measures)
State Grantees—Part II | 51 | 1 | 150 | 7,650
Sub-Grantees (in states with sub-grantee managed systems)—Part II | 100 | 1 | 8 | 800
Energy Vendors (largest 5 electric, 5 natural gas, 10 fuel oil, and 10 propane vendors per state—average)—Part II | * 1,530 | 1 | 8.5 | 13,005
* (estimate).

Estimated Total Annual Burden Hours: 24,821.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8629(b); 42 U.S.C. 8624(b); 42 U.S.C. 8623(c).

Mary B. Jones,
ACF/OPRE Certifying Officer.

[FR Doc. 2021-05773 Filed 3-18-21; 8:45 am]

BILLING CODE 4184-80-P